FEDERAL MINE SAFETY AND HEALTH REVIEW COMMISSION

Sunshine Act Notice

TIME AND DATE: 2:00 p.m., Tuesday, October 10, 2023.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Thomas v. CalPortland Co., Docket Nos. WEST 2018-0402-DM and WEST 2019-0205. (Issues include whether the Judge erred in ruling that the miner had established that the operator had discriminated against him under section 105(c)(3) of the Mine Act.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1 (866) 236-7472, Passcode: 678-100.

Authority: 5 U.S.C. 552b.

Dated: September 22, 2023.
Sarah L. Stewart,
Deputy General Counsel.

[FR Doc. 2023-21163 Filed 9-25-23; 11:15 am]

BILLING CODE 6735-01-P